SMALL BUSINESS ADMINISTRATION

[Declaration of Disaster #3360]

State of Florida

Martin County and the contiguous counties of Okeechobee, Palm Beach and St. Lucie in the State of Florida constitute a disaster area due to damages caused by heavy rainfall and flooding from Tropical Storm Barry that began on August 2, 2001. Applications for loans for physical damage as a result of this disaster may be filed until the close of business on October 22, 2001 and for economic injury until the close of business on May 21, 2002 at the address listed below or other locally announced locations: U.S. Small Business Administration, Disaster Area 2 Office; One Baltimore Place, Suite 300, Atlanta, GA 30308.

The interest rates are:

For Physical Damage

Homeowners With Credit Available Elsewhere—6.625%

Homeowners Without Credit Available Elsewhere—3.312%

Businesses With Credit Available Elsewhere—8.000%

Businesses and Non-Profit Organizations Without Credit Available Elsewhere—4.000%

Others (Including Non-Profit Organizations) With Credit Available Elsewhere—7.125%

For Economic Injury

Businesses and Small Agricultural Cooperatives Without Credit Available Elsewhere—4.000%

The number assigned to this disaster for physical damage is 336011 and for economic injury the number assigned is 9M3900.

(Catalog of Federal Domestic Assistance Program Nos. 59002 and 59008)
Dated: August 21, 2001.
Hector V. Barreto,
Administrator.

[FR Doc. 01-21912 Filed 8-29-01; 8:45 am]

BILLING CODE 8025-01-P